BUREAU OF CONSUMER FINANCIAL PROTECTION

[Docket No. CFPB-2022-0030]

Agency Information Collection Activities: Comment Request

AGENCY: Bureau of Consumer Financial Protection.

ACTION: Notice and request for comment.

SUMMARY: In accordance with the Paperwork Reduction Act of 1995 (PRA), the Consumer Financial Protection Bureau (CFPB or Bureau) requests the extension of the Office of Management and Budget's (OMB's) approval of the existing information collection titled, “Consumer Complaint Intake System Company Portal Boarding Form,” approved under OMB Control Number 3170-0054.

DATES: Written comments are encouraged and must be received on or before June 23, 2022 to be assured of consideration.

ADDRESSES: Written comments and recommendations for the proposed information collection should be sent within 30 days of publication of this notice to www.reginfo.gov/public/do/PRAMain. Find this particular information collection by selecting “Currently under 30-day Review—Open for Public Comments” or by using the search function. In general, all comments received will become public records, including any personal information provided. Sensitive personal information, such as account numbers or Social Security numbers, should not be included.

FOR FURTHER INFORMATION CONTACT: Documentation prepared in support of this information collection request is available at www.regulations.gov. Requests for additional information should be directed to Anthony May, Paperwork Reduction Act Officer, at (202) 841-0544, or email: CFPB_PRA@cfpb.gov. If you require this document in an alternative electronic format, please contact CFPB_Accessibility@cfpb.gov. Please do not submit comments to these email boxes.

SUPPLEMENTARY INFORMATION:

Title of Collection: Consumer Complaint Intake System Company Portal Boarding Form.

OMB Control Number: 3170-0054.

Type of Review: Extension of a currently approved information collection.

Affected Public: Private sector.

Estimated Number of Respondents: 400.

Estimated Total Annual Burden Hours: 85.

Abstract: Section 1013(b)(3)(A) of the Dodd-Frank Wall Street Reform and Consumer Protection Act, Public Law 111-203, requires the Bureau to “facilitate the centralized collection of, monitoring of, and response to consumer complaints regarding consumer financial products or services.” ¹ In furtherance of its statutory mandates related to consumer complaints, the Bureau utilizes a Consumer Complaint Intake System Company Portal Boarding Form (Boarding Form) to sign up companies for access to the secure, web-based Company Portal (Company Portal). The Company Portal allows companies to view and respond to complaints submitted to the Bureau, supports the efficient routing of consumer complaints to companies, and enables a timely and secure response by companies to the Bureau and consumers.²

¹ Codified at 12 U.S.C. 5493(b)(3)(A). See also Dodd-Frank Act, section 1034 (discussing responses to consumer complaints), codified at 12 U.S.C. 5534; section 1021(c)(2) (noting that one of the Bureau's primary functions is “collecting, investigating, and responding to consumer complaints”), codified at 12 U.S.C. 5511(c)(2).

² In addition to the Boarding Form for companies, the Bureau utilizes separate OMB-approved forms to board government agencies and congressional offices onto their own distinct portals to access certain complaint information through OMB Control Number 3170-0057 (Consumer Response Government and Congressional Boarding Forms; expires 6/30/2022).

Request for Comments: The Bureau published a 60-day Federal Register notice on 1/28/2022 (87 FR 4570) under Docket Number: CFPB-2022-0005. The Bureau is soliciting comments on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be submitted to OMB as part of its review of this request. All comments will become a matter of public record.

Anthony May,
Paperwork Reduction Act Officer, Consumer Financial Protection Bureau.

[FR Doc. 2022-11147 Filed 5-23-22; 8:45 am]

BILLING CODE 4810-AM-P